DEPARTMENT OF ENERGY

Federal Energy Regulatory Commission

[Docket No. EG03-72-000]

Whiting Leasing LLC; Errata Notice

July 14, 2003.

On May 29, 2003, the Commission issued a Notice of Application for Commission Determination of Exempt Wholesale Generator Status in the above-captioned proceeding, 68 FR 33,390. The name of the applicant was incorrectly listed as Whiting Clean Energy, Inc. The correct name of the applicant is Whiting Leasing LLC. We have incorporated this correction to this Errata Notice.

Magalie R. Salas,
Secretary.

[FR Doc. 03-18313 Filed 7-17-03; 8:45 am]

BILLING CODE 6717-01-P